DEPARTMENT OF TRANSPORTATION

National Highway Traffic Safety Administration

[Docket No. NHTSA-2009-0113; Notice 1]

Auto Temp, Inc., Receipt of Petition for Decision of Inconsequential Noncompliance

Auto Temp, Inc. (Auto Temp) has determined that certain replacement backlights (part number FB22692 GTY ATI), manufactured for 2006-09 Honda Civic 2-Door Coupe passenger cars, do not fully comply with paragraph S5.2 of 49 CFR 571.205, Federal Motor Vehicle Safety Standard (FMVSS) No. 205 Glazing Materials. Auto Temp has filed an appropriate report pursuant to 49 CFR part 573, Defect and Noncompliance Responsibility and Reports.

Pursuant to 49 U.S.C. 30118(d) and 30120(h) (see implementing rule at 49 CFR part 556), Auto Temp has petitioned for an exemption from the notification and remedy requirements of 49 U.S.C. Chapter 301 on the basis that this noncompliance is inconsequential to motor vehicle safety.

This notice of receipt of Auto Temp's petition is published under 49 U.S.C. 30118 and 30120 and does not represent any agency decision or other exercise of judgment concerning the merits of the petition.

Auto Temp estimated that 68 replacement backlights manufactured on July 14, 2008, intended for 2006-09 Honda Civic 2-Door coupe passenger cars, are involved and that 80% of those backlights may be noncompliant.

Paragraphs S5.2 of FMVSS No. 108 require in pertinent part:

S5.2 Each of the test specimens described in ANSI/SAE Z26.1-1996 Section 5.7 (fracture test) must meet the fracture test requirements of that section when tested in accordance with the test procedure set forth in that section.

5.7.4 Interpretation of Results. NO individual fragment free from cracks and obtained within 3 minutes subsequent to test shall weight more than 4.25g (0.15oz).

Auto Temp explained that the noncompliance is that the subject backlights do not meet the fracture test requirements of FMVSS No. 205 Section 5.7 Fracture Test 7 ANSI/SAE Z26.1-1996, because several tests revealed that out of 8 tested backlights, 6 contained fragments that exceeded the 4.25g (0.15oz) threshold specified by the above standard.

Auto Temp states that it believes that this noncompliance is inconsequential to motor vehicle safety for the following reasons. Out of several thousand total fragments no more than 2 noncompliant fragments were found from a single backlight. Each of the noncompliant fragments exhibited all of the characteristics of tempered safety glass. The position of the noncompliant fragments in the backlight, coupled with the package tray location of the Honda Civic 2-Door Coupe, minimizes the potential for any contact between glass fragments and vehicle occupants. The extremely low percentage of noncompliant fragments, together with the small number of total affected backlights, results in a minimal impact on issue of motor vehicle safety.

Auto Temp also has informed NHTSA that since it has petitioned for an exemption from the notification and remedy requirements of 49 U.S.C. Chapter 301 on the basis that this noncompliance is inconsequential to motor vehicle safety it has not yet formulated a remedy for the noncompliance. However, Auto Temp has agreed to reimburse its customers for all returned parts (FB22692 GTY ATI backlights produces on July 14, 2008) regardless of the filing of an inconsequential petition.

Auto Temp also informed NHTSA that it has corrected the problem that caused this noncompliance.

In summation, Auto Temp states that it believes that the noncompliances are inconsequential to motor vehicle safety and that no corrective action is warranted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Anyone is able to search the electronic form of all comments received into any of our dockets by the name of the individual submitting the comment (or signing the comment, if submitted on behalf of an association, business, labor union, etc.). DOT's complete Privacy Act Statement in the Federal Register published on April 11, 2000 (65 FR 19477-78).

You may view documents submitted to a docket at the address and times given above. You may also view the documents on the Internet at http://www.regulations.gov by following the online instructions for accessing the dockets available at that Web site.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: August 31, 2009.

Authority: (49 U.S.C. 30118, 30120: delegations of authority at CFR 1.50 and 501.8).

Issued on: July 27, 2009.
Claude H. Harris,
Director, Office of Vehicle Safety Compliance.

[FR Doc. E9-18253 Filed 7-30-09; 8:45 am]

BILLING CODE 4910-59-P